DEPARTMENT OF COMMERCE

International Trade Administration

Notice of Scope Rulings

AGENCY: Import Administration, International Trade Administration, Department of Commerce.

DATES: Effective Date: March 31, 2009.

SUMMARY: The Department of Commerce (“Department”) hereby publishes a list of scope rulings completed between October 1, 2008, and December 31, 2008. In conjunction with this list, the Department is also publishing a list of requests for scope rulings and anticircumvention determinations pending as of December 31, 2008. We intend to publish future lists after the close of the next calendar quarter.

FOR FURTHER INFORMATION CONTACT: Matthew Renkey, AD/CVD Operations, China/NME Group, Import Administration, International Trade Administration, U.S. Department of Commerce, 14th Street and Constitution Avenue, NW., Washington, DC 20230; telephone: 202-482-2312.

SUPPLEMENTARY INFORMATION:

Background

The Department's regulations provide that the Secretary will publish in the Federal Register a list of scope rulings on a quarterly basis. See 19 CFR 351.225(o). Our most recent notification of scope rulings was published on December 1, 2008. See Notice of Scope Rulings, 73 FR 72771 (December 1, 2008). This current notice covers all scope rulings and anticircumvention determinations completed by Import Administration between October 1, 2008, and December 31, 2008, inclusive, and it also lists any scope or anticircumvention inquiries pending as of December 31, 2008. As described below, subsequent lists will follow after the close of each calendar quarter.

Scope Rulings Completed Between October 1, 2008, and December 31, 2008

Germany

A-428-825: Stainless Steel Sheet and Strip in Coils from Germany. Requestor: Almetals, Inc.; TriClad nickel-clad stainless steel sheet and strip in coils is within the scope of the antidumping duty order; October 10, 2008.

Japan

A-588-046: Polychloroprene Rubber from Japan. Requestor: DuPont Performance Elastomers L.L.C.; solid polychloroprenes that are dipolymers of chloroprene and methacrylic acid having methacrylic acid comonomer content in the 0.2 percent to 5.0 percent range (this category does not include aqueous chloroprene/methacrylic acid dipolymer dispersion products or solvent solutions of chloroprene/methacrylic acid dipolymers) are excluded from the scope of the antidumping duty order; October 31, 2008.

A-588-046: Polychloroprene Rubber from Japan. Requestor: DuPont Performance Elastomers L.L.C; aqueous dispersions of 2-chlorobutadiene-1,3 homopolymers, where the polymer content of the dispersion is between 55 weight percent and 61 weight percent and the dispersed homopolymer contains less than 10 weight percent of a tetrahydrofuran-insoluble fraction are excluded from the scope of the antidumping duty order; December 12, 2008.

People's Republic of China

A-570-504: Petroleum Wax Candles from the People's Republic of China. Requestor: Sourcing International, LLC; Red Rose Stem (HM65975W-G); White and Yellow Poppies (HM65895R); Water Lotus (HM52305LB); Spotted Orchid (HM12066); and Bouquet of Pom Pom (HM65833W-G) novelty candles are not within the scope of the antidumping duty order; October 20, 2008.

A-570-827: Cased Pencils from the People's Republic of China. Requestor: Walgreen Co.; the “ArtSkills Stencil Kit” is not within the scope of the antidumping duty order; October 8, 2008.

A-570-882: Refined Brown Aluminum Oxide from the People's Republic of China. Requestor: 3M Company; semi-friable aluminum oxide and heat-treated aluminum oxide are within the scope of the antidumping duty order; October 1, 2008.

A-570-886: Polyethylene Retail Carrier Bags from the People's Republic of China. Requestor: Rayton Produce Packaging Inc.; promotional bag (model # F-OPPAPEJZLG) is within the scope of the antidumping duty order; October 2, 2008.

A-570-886: Polyethylene Retail Carrier Bags from the People's Republic of China. Requestor: Majestic International; certain polyethylene gift bags (UPC codes starting with 8-51603- and ending with: 00002-3, 00004-7, 00140-2, 00141-9, 00142-6, 00041-2, 00040-5, 00052-8, 00059-7, 00066-5, 00068-9, 00071-9, 00072-6, 00075-7, 00076-4, 00092-4, 00093-1, 00094-8, 00098-6, 00131-0, 00132-7, 00133-4, 00144-0, 00145-7, 00152-5, 00153-2, 00155-6, 00156-3, 00160-0, 00163-1, 00165-5, 00166-2, 00175-4, 00176-1, 00181-5, 00183-9, 00226-3, 00230-0, 00231-7, 00246-1, 00251-5, 00252-2, 00253-9, 00254-6, 00255-3, 00256-0, 00257-7, 00259-1, 00260-7, 00262-1, 00263-8, 00300-0, 00301-7, 00302-4, 00303-1, 00305-5, 00306-2, 00307-9, 00308-6, 00309-3, 00350-5, 00351-2, 00352-9, 00353-6, 00354-3, 00355-0, 00356-7, 00357-4, 00358-1) are not within the scope of the antidumping duty order; November 19, 2008.

A-570-890 Wooden Bedroom Furniture from the People's Republic of China. Requestor: Stanley Furniture Company, Inc.; its convertible cribs are not within the scope of the antidumping duty order; December 23, 2008.

A-570-891: Hand Trucks from the People's Republic of China. Requestor: Central Purchasing, LLC.; its welding cart (model number 65939), is not within the scope of the antidumping duty order; October 1, 2008.

A-570-891: Hand Trucks from the People's Republic of China. Requestor: Reisenthel Accessories; Carrycruiser shopping cart is not within the scope of the antidumping duty order; October 15, 2008.

A-570-891: Hand Trucks from the People's Republic of China. Requestor: Ardisam, Inc.; Yukon Tracks Sportsman's Cart (model number AV125) is not within the scope of the antidumping duty order; October 16, 2008.

A-570-891: Hand Trucks from the People's Republic of China. Requestor: Conair Corporation; LadderKart, a hand truck with an integral folding step-ladder, is within the scope of the antidumping duty order; October 20, 2008.

A-570-891: Hand Trucks from the People's Republic of China. Requestor: American Lawn Mower Company; Collect-It Garden Waste Remover is not within the scope of the antidumping duty order; November 10, 2008.

A-570-891: Hand Trucks from the People's Republic of China. Requestor: Eastman Outdoors, Inc.; Versa deer cart (model #9930) is not within the scope of the antidumping duty order; December 31, 2008.

A-570-922 and C-570-923: Raw Flexible Magnets from the People's Republic of China. Requestor: Target Corporation; certain decorative retail magnets (for model numbers starting with DPCI05319- and ending with: 2052 and 2058) are not within the scope of the antidumping and countervailing duty orders; certain decorative retail magnets (for model numbers starting with DPCI05319- and ending with: 2064, 2065, 2066, 2067, 2068, 2069, 2070, 2071, 2072, 2073, 2074, 2075, 2076, 2077, 2078, 2079, and model number DPCI053230152) are within the scope of the antidumping and countervailing duty orders; December 22, 2008.

Multiple Countries

A-423-808 and C-423-809: Stainless Steel Plate in Coils from Belgium; A-475-822: Stainless Steel Plate in Coils from Italy; A-580-831: Stainless Steel Plate in Coils from South Korea; A-583-830: Stainless Steel Plate in Coils from Taiwan; A-791-805 and C-791-806: Stainless Steel Plate in Coils from South Africa. Requestor: Ugine & ALZ Belgium N.V.; stainless steel products with an actual thickness of less than 4.75 mm, regardless of nominal thickness, are within the scope of the antidumping and countervailing duty orders; December 3, 2008.

Anticircumvention Determinations Completed Between October 1, 2008, and December 31, 2008

None.

Scope Inquiries Terminated Between October 1, 2008, and December 31, 2008

None.

Anticircumvention Inquiries Terminated Between October 1, 2008, and December 31, 2008

None.

Scope Inquiries Pending as of December 31, 2008

People's Republic of China

A-570-806: Silicon Metal from the People's Republic of China. Requestor: Globe Metallurgical Inc.; whether certain silicon metal exported by Ferro-Alliages et Mineraux to the United States from Canada is within scope of the antidumping duty order; requested October 1, 2008.

A-570-827: Cased Pencils from the People's Republic of China. Requestor: Walgreen Co.; whether the “ArtSkills Draw & Sketch Kit” is within the scope of the antidumping duty order; requested May 29, 2007; initiated March 21, 2008.

A-570-827: Cased Pencils from the People's Republic of China. Requestor: Paper Magic Group (“PMG”); whether PMG's children's Valentine card sets with pencils are within the scope of the antidumping duty order; requested October 6, 2008; initiated November 20, 2008.

A-570-864: Pure Magnesium in Granular Form from the People's Republic of China. Requestor: ESM Group Inc.; whether atomized ingots are within the scope of the antidumping duty order; original scope ruling rescinded and vacated April 18, 2007; ¹ initiated April 18, 2007; preliminary ruling issued August 27, 2008.

¹ See Notice of Scope Rulings, 72 FR 43245, 43246 (August 3, 2007).

A-570-866: Folding Gift Boxes from the People's Republic of China. Requestor: Footstar; whether certain four boxes for business cards and forms (length × width: 5 × 3.5; 7 × 3.5; 12.125 × 3.5; and 11 × 8.5) are within the scope of the antidumping duty order; requested April 26, 2007.

A-570-866: Folding Gift Boxes from the People's Republic of China. Requestor: Hallmark Cards, Inc.; whether its “FunZip” gift presentation is within the scope of the antidumping duty order; requested June 1, 2007.

A-570-868: Folding Metal Tables and Chairs from the People's Republic of China. Requestor: New Tec Integration Co., Ltd.; whether New Tec's chair using two U-shaped steel tubes to form the front and rear legs, and not utilizing the cross-bracing typically affixed to the leg frame by rivets, welds, and fasteners, is within the scope of the antidumping duty order; requested July 30, 2008; initiated September 24, 2008.

A-570-890: Wooden Bedroom Furniture from the People's Republic of China. Requestor: Armel Enterprises, Inc.; whether certain children's playroom and accent furniture are within the scope of the antidumping duty order; requested September 24, 2007.

A-570-890: Wooden Bedroom Furniture from the People's Republic of China. Requestor: Target Corporation; whether the Shabby Chic secretary desk and mirror are within the scope of the antidumping duty order; requested November 30, 2007.

A-570-890: Wooden Bedroom Furniture from the People's Republic of China. Requestor: Zinus, Inc. and Zinus (Xiamen) Inc.; whether its Smartbox mattress support and box spring are within the scope of the antidumping duty order; requested January 22, 2008.

A-570-890: Wooden Bedroom Furniture from the People's Republic of China. Requestor: Acme Furniture Industry, Inc.; whether its mattress supports (item nos. 2833, 2834, 2835, 2836 and 2837) are within the scope of the antidumping duty order; requested February 26, 2008.

A-570-891: Hand Trucks from the People's Republic of China. Requestor: Northern Tool & Equipment Co.; whether a high-axle torch cart (item #164771) is within the scope of the antidumping duty order; requested March 27, 2007.

A-570-891: Hand Trucks from the People's Republic of China. Requestor: Corporate Express Inc.; whether its luggage carts, model numbers CEB31210 and CEB31490, are within the scope of the antidumping duty order; requested January 31, 2008.

A-570-891: Hand Trucks from the People's Republic of China. Requestor: Safco Products Co.; whether its StowAway Cart (Model 4062) and Stow And Go Cart (Model 4049) are within the scope of the antidumping duty order; requested October 16, 2008; initiated November 28, 2008.

A-570-898: Chlorinated Isocyanurates from the People's Republic of China. Requestor: BioLab, Inc.; whether chlorinated isocyanurates originating in the People's Republic of China, that are packaged, tableted, blended with additives, or otherwise further processed in Vietnam before entering the U.S., are within the scope of the antidumping duty order; requested August 15, 2007; initiated March 21, 2008.

A-570-899: Artist Canvas from the People's Republic of China. Requestor: C2F, Inc.; whether framed artist canvas in two forms (i.e., 65% polyester, 35% cotton bulk or 100% cotton bulk) woven in the Republic of Korea and cut and framed in the People's Republic of China are within the scope of the antidumping duty order; requested September 4, 2008.

A-570-899: Artist Canvas from the People's Republic of China. Requestor: Art Supplies Enterprises, Inc.; whether framed artist canvas woven and primed in Vietnam and cut and framed in the People's Republic of China is within the scope of the antidumping duty order; requested December 22, 2008.

A-570-901: Lined Paper Products from the People's Republic of China. Requestor: Lakeshore Learning Materials; whether certain printed educational materials, product numbers RR973 and RR974 (Reader's Book Log); GG185 and GG186 (Reader's Response Notebook); GG181 and GG182 (The Writer's Notebook); RR673 and RR674 (My Word Journal); AA185 and AA186 (Mi Diario de Palabras); RR630 and RR631 (Draw & Write Journal); AA786 and AA787 (My First Draw & Write Journal); AA181 and AA182 (My Picture Word Journal); GG324 and GG325 (Writing Prompts Journal); EE441 and EE442 (Daily Math Practice Journal Grades 1-3); EE443 and EE444 (Daily Math Practice Journal Grades 4-6); EE651 and EE652 (Daily Language Practice, Grades 1-3); EE653 and EE654 (Daily Language Practice Journal, Grades 4-6), are within the scope of the antidumping duty order; requested December 7, 2006; initiated May 7, 2007.

A-570-901: Lined Paper Products from the People's Republic of China. Requestor: Livescribe Inc., whether the patented dot-patterned paper (trademarked “ANOTO”) is within the scope of the antidumping duty order; requested October 24, 2008.

A-570-901: Lined Paper Products from the People's Republic of China. Requestor: PlanAhead LLC; whether writing cases, writing portfolios, portfolios and padfolios, 70314 Professional Padfolio; 70689 Contour Padfolio; 72055 Urban Padfolio; 72537 Fashion Padfolio, are within the scope of the antidumping duty order; requested November 17, 2008.

A-570-904: Certain Activated Carbon from the People's Republic of China. Requestor: Rolf C Hagen (USA) Corp; whether certain fish filter parts are within the scope of the antidumping duty order; requested November 14, 2008.

A-570-909: Certain Steel Nails from the People's Republic of China. Requestor: Shanghai March Import & Export Co., Ltd.; whether the horseshoe nails imported by Shanghai March Import & Export Co., Ltd. are within the scope of the antidumping duty order; requested October 17, 2008.

A-570-916 and C-570-917: Laminated Woven Sacks from the People's Republic of China. Requestor: Archer Daniels Midland Company; whether Products A and Product B described as: (1) Made of a single ply of woven polypropylene strip; (2) laminated with biaxially-oriented polypropylene (“BOPP”); (3) printed in three colors; and (4) of less than one kilogram in weight are within the scope of the antidumping duty order; whether Products C, D and F described as each having no lamination or coating of BOPP; and whether Product E described as: (1) Made of a single ply of woven polypropylene strip; (2) laminated with BOPP; (3) printed in two colors; and (4) less than one kilogram in weight are within the scope of the antidumping duty order; requested October 24, 2008.

A-570-918: Steel Wire Garment Hangers from the People's Republic of China. Requestor: Econoco Corporation; whether chrome-plated hangers with a certain diameter are within the scope of the antidumping duty order; requested December 3, 2008.

A-570-918: Steel Wire Garment Hangers from the People's Republic of China. Requestor: American Hanger; whether chrome-plated hangers with a certain diameter are within the scope of the antidumping duty order; requested December 1, 2008.

A-570-922 and C-570-923: Raw Flexible Magnets from the People's Republic of China. Requestor: Target Corporation; whether certain decorative retail magnets (for model numbers starting with DPCI05319- and ending with: 2052, 2058, 2064, 2065, 2066, 2067, 2068, 2069, 2070, 2071, 2072, 2073, 2074, 2075, 2076, 2077, 2078, 2079; and model number DPCI053230152) are within the scope of the antidumping duty order; requested September 9, 2008.

Anticircumvention Rulings Pending as of December 31, 2008

People's Republic of China

A-570-849: Cut-to-Length Carbon Steel Plate from the People's Republic of China. Requestor: Nucor Corporation, SSAB N.A.D., Evraz Claymont Steel, Evraz Oregon Steel Mills, and ArcelorMittal USA Inc.; whether adding metallurgically and economically insignificant amounts of boron is a minor alteration that circumvents the antidumping duty order; requested August 13, 2008; initiated October 10, 2008.

A-570-868: Folding Metal Tables and Chairs from the People's Republic of China. Requestor: Meco Corporation; whether the common leg table (a folding metal table affixed with cross bars that enable the legs to fold in pairs) produced in the People's Republic of China is a minor alteration that circumvents the antidumping duty order; requested October 31, 2005; preliminary ruling issued October 27, 2008.

A-570-894: Certain Tissue Paper Products from the People's Republic of China. Requestor: Seaman Paper Company of Massachusetts, Inc.; whether imports of tissue paper from Thailand made out of jumbo rolls and sheets of tissue paper from the People's Republic of China are circumventing the antidumping duty order; requested September 10, 2008; initiated October 27, 2008.

Interested parties are invited to comment on the completeness of this list of pending scope and anticircumvention inquiries. Any comments should be submitted to the Deputy Assistant Secretary for AD/CVD Operations, Import Administration, International Trade Administration, 14th Street and Constitution Avenue, NW., APO/Dockets Unit, Room 1870, Washington, DC 20230.

This notice is published in accordance with 19 CFR 351.225(o).

March 20, 2009.
John M. Andersen,
Acting Deputy Assistant Secretary for Antidumping and Countervailing Duty Operations.

[FR Doc. E9-7221 Filed 3-30-09; 8:45 am]

BILLING CODE 3510-DS-P